DEPARTMENT OF COMMERCE

Bureau of the Census

15 CFR Part 30

[Docket Number: 140821699-5179-02]

RIN 0607-AA53

Foreign Trade Regulations (FTR): Reinstatement of Exemptions Related to Temporary Exports, Carnets, and Shipments Under a Temporary Import Bond

AGENCY: Bureau of the Census, Commerce Department.

ACTION: Final rule.

SUMMARY: The Bureau of the Census (Census Bureau) issued a final rule amending the Foreign Trade Regulations (FTR) to eliminate the reporting requirement for temporary exports, which includes Carnets, and goods previously imported on a Temporary Import Bond (TIB). This final rule is being implemented to ensure consistency with the Customs Convention on the ATA Carnet for the Temporary Admission of Goods (ATA Convention) and reduce filing burden on the trade community. On September 12, 2014, the Census Bureau published this rule on an interim final basis. The Census Bureau is finalizing this rule without change.

DATES: Effective Date: This rule is effective May 15, 2015. The interim rule published on September 12, 2014 (79 FR 54588), became effective September 12, 2014.

FOR FURTHER INFORMATION CONTACT: Dale C. Kelly, Chief, International Trade Management Division, U.S. Census Bureau, 4600 Silver Hill Road, Room 6K032, Washington, DC 20233-6700, by phone (301) 763-6937, by fax (301) 763-8835, or by email <dale.c.kelly@census.gov>.

SUPPLEMENTARY INFORMATION:

Background

The Census Bureau is responsible for collecting, compiling, and publishing export trade statistics for the United States under the provisions of Title 13, United States Code (U.S.C.), Chapter 9, Section 301(a). The Automated Export System (AES) is the primary instrument used for collecting export trade data, which are used by the Census Bureau for statistical purposes. Through the AES, the Census Bureau collects Electronic Export Information (EEI), the electronic equivalent of the export data formerly collected on the Shipper's Export Declaration, pursuant to the Foreign Trade Regulations (FTR), Title 15, Code of Federal Regulations (CFR), part 30. Filing in the AES is not required for shipments excluded in Section 30.2(d) and shipments exempted in Subpart D that are not subject to Section 30.2(a)(1)(iv).

The Census Bureau published a Final Rule in the Federal Register on March 14, 2013 (78 FR 16366), that removed the exemptions for Carnets and other temporary exports and goods previously imported under a Temporary Import Bond (TIB) exported in the same condition. The Department of the Treasury and members of the trade community raised concerns about the new AES filing requirement for Carnets, which is an international customs and temporary export-import document that is used to clear customs without paying duties and import taxes on merchandise that will be reexported within 12 months. The concerns centered on whether mandatory AES filing for Carnets may be contrary to the ATA Convention, to which the U.S. is a contracting party. In addition, there was concern that unless the exemptions were reinstated, it would be extremely difficult to comply with the FTR, particularly for goods moving on a foreign Carnet. To address these concerns, the Census Bureau and U.S. Customs and Border Protection (CBP) determined it was necessary to reinstate the exemptions from filing for temporary exports, including Carnets, and goods that were previously imported under a TIB for return in the same condition as when exported.

In accordance with the Interim Final Rule published on September 12, 2014, this rule clarifies that the reporting requirement for temporary exports, which includes Carnets, and goods previously imported on a TIB is eliminated. This revision reinstates exemptions for temporary exports/Carnets and for goods that were imported under a TIB for return in the same condition as when imported. The U.S. Department of State and the U.S. Department of Homeland Security concur with the provision contained in this rule.

Summary of Comments and Responses

The Census Bureau received one comment on the Interim Final Rule published in the Federal Register on September 12, 2014 (79 FR 54588). A summary of the comment and the Census Bureau's response is provided below.

Comment: Clarify if exporters are required to file Electronic Export Information (EEI) if items are shipped into the U.S. under a foreign obtained ATA Carnet, and then re-exported, never returning to the U.S. Additionally, clarify if exporters are required to file EEI if items are exported under a U.S. obtained ATA Carnet and will be returned within 12 months under the same Carnet.

Response: The Census Bureau clarifies here that reporting of EEI is not required for exports moving under either a U.S. or foreign issued Carnets. All Carnet shipments are exempt from EEI filing under Foreign Trade Regulations, Section 30.37(q) or (r).

Rulemaking Requirements

Administrative Procedure Act

The Census Bureau finds good cause pursuant to Title 5, U.S.C., 553(b)(3)(B) to waive prior notice and opportunity for public comment, as contrary to the public interest. The Census Bureau is undertaking this amendment in order to reduce filing burden on the trade community and to ensure consistency with the ATA Carnets for the Temporary Admission of Goods (ATA Convention). In particular, this rule reinstates the previous filing exemptions in § 30.37(q) and (r) of the FTR for temporary exports, including Carnets, and goods that were imported under a TIB for return in the same condition as when imported, which will ensure consistency with the ATA Convention, reduce filing requirements, avoid confusion, and ease compliance with the FTR. Additionally, and for similar reasons, the Census Bureau finds good cause pursuant to 5 U.S.C. 553(d) to waive the 30-day delay in effectiveness for this rule. This rule allows for an exemption to the AES filing requirements and imposes no additional requirements or obligations on any member of the public; therefore, delaying its effectiveness is unnecessary.

Regulatory Flexibility Act

The Chief Counsel for Regulation of the Department of Commerce certified to the Chief Counsel for Advocacy of the Small Business Administration (SBA) that this rule will not have a significant impact on a substantial number of small entities.

The purpose and goal of this rule are explained in the preamble, and are not repeated here. This rule does not mandate any new filing requirements and does not directly impact any small or large entities. We received no comments on the certification in the proposed rule; accordingly, no Regulatory Flexibility analysis is required and none has been prepared.

Executive Orders

This rule has been determined to be not significant for purposes of Executive Orders 12866 and 13563, and has been drafted according to the requirements of those Executive Orders. It has also been determined that this rule does not contain policies with federalism implications as that term is defined under Executive Order 13132.

Paperwork Reduction Act

This rule does not contain any information collection subject to the Paperwork Reduction Act (PRA). However, notwithstanding any other provision of law, no person is required to respond to, nor shall a person be subject to a penalty for failure to comply with, a collection of information subject to the requirements of the PRA, unless that collection of information displays a current and valid Office of Management and Budget (OMB) control number.

List of Subjects in 15 CFR Part 30

Economic statistics, Exports, Foreign trade, Reporting and recordkeeping requirements.

PART 30—FOREIGN TRADE REGULATIONS

Accordingly, as discussed above, the Interim Final Rule amending 15 CFR part 30, which was published at 79 FR 54588 on September 12, 2014, is adopted as a final rule without change.

Dated: May 7, 2015.
John H. Thompson,
Director, Bureau of the Census.

[FR Doc. 2015-11809 Filed 5-14-15; 8:45 am]

BILLING CODE 3510-07-P